DEPARTMENT OF ENERGY

Federal Energy Regulatory Commission

[Docket Nos. IS18-766-000, IS18-767-000]

Notice Rescheduling Technical Conference: Mid-America Pipeline Company, LLC; Seminole Pipeline Company LLC

The technical conference originally scheduled for January 17, 2016, in the above-referenced proceeding, is hereby rescheduled to convene on February 20, 2019, at 9:00 a.m. (Eastern Standard Time). It will occur in Hearing Room 2 at the Commission's Washington DC offices.¹

¹ See the Notice of Technical Conference issued on December 12, 2018, for additional details regarding this conference.

Dated: January 15, 2019.
Kimberly D. Bose,
Secretary.

[FR Doc. 2019-00541 Filed 1-31-19; 8:45 am]

BILLING CODE 6717-01-P